DEPARTMENT OF THE INTERIOR

National Park Service

Monocacy National Battlefield, Maryland

AGENCY: Department of the Interior, National Park Service.

ACTION: Notice of Availability, Draft Environmental Impact Statement for the General Management Plan, Monocacy National Battlefield.

SUMMARY: The National Park Service announces the availability of the Draft Environmental Impact Statement for the General Management Plan for Monocacy National Battlefield, Maryland. This document will be available for public review and comment pursuant to section 102(2)(C) of the National Environmental Policy Act of 1969 (42 U.S.C. 4321) and National Park Service policy.

DATES: A 60-day public comment period will begin with the Environmental Protection Agency's publication of its notice of availability in the Federal Register.

ADDRESSES: Copies of the Draft Environmental Impact Statement and the General Management Plan are available at Monocacy National Battlefield, 4801 Urbana Pike, Frederick, Maryland 21701. An electronic copy of the DEIS and GMP is also available on the National Park Service Web site at http://parkplanning.nps.gov/mono.

FOR FURTHER INFORMATION CONTACT: Susan Trail, Superintendent, Monocacy National Battlefield, at 4801 Urbana Pike, Frederick, Maryland 21701, and by telephone at (301) 694-3147. The responsible official for the Draft Environmental Impact Statement is Margaret O'Dell, Regional Director, National Capital Region, National Park Service, 1100 Ohio Drive, SW., Washington, DC 20242.

SUPPLEMENTARY INFORMATION: The document provides a framework for management, use, and development options for Monocacy National Battlefield by the National Park Service for the next 15 to 20 years. The document describes four management alternatives for consideration, including a no-action alternative, and analyzes the environmental impacts of those alternatives for all units of Monocacy National Battlefield.

Alternative 4, the preferred alternative, would move park administration into the Thomas House and maintenance would continue at the Gambrill Mill site. Visitors would transit the battlefield in their automobiles. All historic structures would be preserved with exhibits in the Worthington House and Thomas outbuilding. New trails would be constructed and commemorative memorial locations would be upgraded. A pedestrian-only deck would be constructed over Interstate 270 between the Worthington and Thomas farms.

The public is welcome to comment on the draft plan at http://parkplanning.nps.gov/mono or by mail at Monocacy National Battlefield, 4801 Urbana Pike, Frederick, Maryland 21701.

Before including your address, phone number, e-mail address or other personal identifying information in your comment, you should be aware that your entire comment, including your personal identifying information, may be made publicly available at any time. While you can ask us in your comment to withhold your personal identifying information from public review, we cannot guarantee that we will be able to do so.

Dated: January 14, 2009.
Margaret O'Dell,
Regional Director, National Capital Region.

[FR Doc. E9-7951 Filed 4-7-09; 8:45 am]

BILLING CODE 4312-57-P